U.S. INTERNATIONAL DEVELOPMENT FINANCE CORPORATION

[DFC-014]

Submission for OMB Review

AGENCY: U.S. International Development Finance Corporation (DFC).

ACTION: Notice of information collection; emergency clearance.

SUMMARY: The U.S. International Development Finance Corporation (DFC) is submitting a request to the Office of Management and Budget (OMB) for emergency review and clearance of a new information collection request under the Paperwork Reduction Act of 1995.

DATES: DFC intends to begin use of this collection immediately.

ADDRESSES: Requests for copies of the subject information collection may be sent by any of the following methods:

• Mail: Joanna Reynolds, Agency Submitting Officer, U.S. International Development Finance Corporation, 1100 New York Avenue NW, Washington, DC 20527.

• Email: fedreg@opic.gov.

Instructions: All submissions received must include the agency name and agency form number or OMB form number for this information collection. Electronic submissions must include the agency form number in the subject line to ensure proper routing. Please note that all written comments received in response to this notice will be considered public records.

FOR FURTHER INFORMATION CONTACT: Agency Submitting Officer: Joanna Reynolds, (202) 357-3979.

SUPPLEMENTARY INFORMATION: In accordance with the Paperwork Reduction Act (PRA), the U.S. International Development Finance Corporation (DFC) is seeking emergency clearance from OMB on a new information collection titled DFC-014, U.S. International Development Finance Corporation—Defense Production Act Loan Application (DFC-DPA Loan Application). Executive Order 13922, “Delegating Authority Under the Defense Production Act to the Chief Executive Officer of the United States International Development Finance Corporation To Respond to the COVID-19 Outbreak,” 85 FR 30583, delegated the authority to make loans, make provision for purchases and commitments to purchase, and take additional actions to create, maintain, protect, expand, and restore the domestic industrial base capabilities, including supply chains under the Defense Production Act (DPA) to the Chief Executive Officer of the DFC in order to help address the national emergency caused by COVID-19.

Emergency clearance is necessary because the time to comply with the public comment provisions of the PRA would prevent the agency from quickly and efficiently responding to a national emergency. The information required by this collection is substantially similar to the information collected in DFC's other currently approved finance applications, OMB 3015-0004 and OMB 3015-0006. Furthermore, the agency intends to use this emergency clearance period to allow it to begin assistance under the DPA while initiating a request for a regular clearance that will provide the full public comment period.

Summary Form Under Review

Title of Collection: U.S. International Development Finance Corporation—Defense Production Act Loan Application (DFC-DPA Loan Application).

Type of Review: New information collection.

Agency Form Number: DFC-014.

OMB Form Number: Not assigned, new information collection.

Frequency: Once per applicant per loan.

Affected Public: Business or other for-profit; not-for-profit institutions; individuals.

Total Estimated Number of Annual Number of Respondents: 100.

Estimated Time per Respondent: 1.5 hours.

Total Estimated Number of Annual Burden Hours: 150 hours.

Abstract: The DFC-DPA Loan Application will be the principal document used by DFC to determine the applicant's eligibility for financing under the DPA and will collect information for financial underwriting analysis.

Dated: June 4, 2020.
Nichole Skoyles,
Administrative Counsel, Office of the General Counsel.

[FR Doc. 2020-12533 Filed 6-9-20; 8:45 am]

BILLING CODE 3210-02-P